FEDERAL MARITIME COMMISSION

Ocean Transportation Intermediary License Reissuance

Notice is hereby given that the following Ocean Transportation Intermediary licenses have been reissued by the Federal Maritime Commission pursuant to section 19 of the Shipping Act of 1984 (46 U.S.C. chapter 409) and the regulations of the Commission pertaining to the licensing of Ocean Transportation Intermediaries, 46 CFR part 515.

License No. | Name/Address | Date reissued
016727NF | Cargo Express (Saipan), Inc., Chalan Kiya Industrial Center, P.O. Box 7447 SVRB, Saipan, MP 96950 | August 25, 2010.
019428N | Delta Trans Logistics, Inc., 15522 Broadway Center Street, Gardena, CA 90248 | August 20, 2010.
020883NF | Masters Shipping Inc., 12520 Lombard Lane, Alsip, IL 60803 | August 22, 2010.
020634NF | Sofilink Continental, Inc., 6313 NW 99th Avenue, Miami, FL 33178 | September 23, 2010
021503F | Global Cargo Group, Inc., dba GCI Logistics, 9300 NW 25th Street, Suite 104, Miami, FL 33172 | August 30, 2010.
021953F | Express Shipping Company of Illinois, 670 E. Northwest Hwy, 2nd FL., Arlington Heights, IL 60004 | September 2, 2010.
022260N | EJ Logistic Inc., 2500 NW 79th Avenue, Suite 200, Miami, FL 33122 | August 26, 2010.

Sandra L. Kusumoto,
Director, Bureau of Certification and Licensing.

[FR Doc. 2010-26431 Filed 10-20-10; 8:45 am]

BILLING CODE 6730-01-P